FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than February 28, 2023.

A. Federal Reserve Bank of San Francisco: (Joseph Cuenco, Assistant Vice President, Formations, Transactions and Enforcement) 101 Market Street, San Francisco, California 94105-1579.

1. Daniel J. Pedack, individually and as trustee of the Daniel J. Pedack Revocable Trust, both of Bonney Lake, Washington; David F. Pedack, individually and as trustee of the David F. Pedack Revocable Trust, both of Seattle, Washington; Eric S. Pedack, individually and as trustee of the Eric S. Pedack Revocable Trust, both of Edmonds, Washington; and John A. Pedack, individually and as trustee of the John A. Pedack, Revocable Trust, both of Everett, Washington; to join the Pedack Family Control Group, a group acting in concert to acquire additional voting shares of Mountain Pacific Bancorp, Inc., and thereby indirectly acquire additional voting shares of Mountain Pacific Bank, both of Everett, Washington.

Board of Governors of the Federal Reserve System.
Michele Taylor Fennell,
Deputy Associate Secretary of the Board.

[FR Doc. 2023-03023 Filed 2-10-23; 8:45 am]

BILLING CODE P